DEPARTMENT OF HOMELAND SECURITY

Federal Emergency Management Service

44 CFR Part 65

[Docket No. FEMA-D-7551]

Changes in Flood Elevation Determinations

AGENCY: Federal Emergency Management Agency (FEMA) Emergency Preparedness and Response Directorate, Department of Homeland Security.

ACTION: Interim rule.

SUMMARY: This interim rule lists commmunities where modification of the Base (1% annual chance) Flood Elevations (BFEs), is appropriate because of new scientific or technical data. New Flood insurance premium rates will be calculated from the modified BFEs for new buildings and their contents.

DATES: These modified BFEs are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et. seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State or regional entities.

The changes in BFEs are in accordance with 44 CFR 65.4.

National Environmental Policy Act

This rule is categorically excluded from the requirement of 44 CFR part 10, Environmental Consideration. No environmental impact assessment has been prepared.

Regulatory Flexibility Act

The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood Insurance, Floodplains, Reporting and recordkeeping requirements.

Accordingly, 44 CFR part 65 is amended to read as follows:

PART 65—[AMENDED]

1. The authority citation for part 65 continues to read as follows.

Authority: 42 U.S.C. 4001 et seq.; Reorganization Plan No. 3 of 1978, 3 CFR, 1978 Comp., p.329; E.O. 12127, 44 FR 19367, 3 CFR, 1979 Comp., p. 376.

§ 65.4 [Amended]

2. The tables published under the authority of § 65.4 are amended as shown below:

State and county | Location | Dates and name of newspaper where notice was published | Chief executive officer of community | Effective date of modification | Community No.
Florida: Walton | Unincorporated Areas | December 29, 2003, January 5, 2004, Defuniak Springs Herald-Breeze. | Mr. Larry Jones, Chairman of the Walton County Board of Commissioners, P.O. Drawer 1355, Defuniak Springs, Florida 32435. | April 5, 2004 | 120317 F
Georgia: Gwinnett | Unincorporated Areas | January 8, 2004, January 15, 2004, Gwinnett Daily Post. | Mr. F. Wayne Hill, Chairman of the Gwinnett County Board of Commissioners, Justice and Administration Center, 75 Langley Drive, Lawrenceville, Georgia 30045. | December 29, 2003 | 130322 C
Georgia: Bibb and Jones | City of Macon and Bibb County | December 31, 2003, January 7, 2004, The Macon Telegraph. | The Honorable C. Jack Ellis, Mayor of the City of Macon, 700 Poplar Street, Macon, Georgia 31201. | April 7, 2004 | 130011 E
Massachusetts: Middlesex | Town of Andover | December 9, 2003, December 16, 2003, The Eagle-Tribune. | Mr. Reginald S. Stapczynski, Manager of the Town of Andover, Andover Town Office, 36 Bartlett Street, Andover, Massachusetts 01810. | March 16, 2004 | 250076 B
Massachusetts: Middlesex | Town of Wilmington | December 9, 2003, December 16, 2003, The Sun. | Mr. Michael Caira, Manager of the Town of Wilmington, Wilmington Town Hall, 121 Glen Road, Wilmington, Massachusetts 01887. | March 16, 2004 | 250227 C&D
Pennsylvania: Lebanon | City of Lebanon | January 2, 2004, January 9, 2004, Lebanon Daily News. | The Honorable Robert A. Anspach, Mayor of the City of Lebanon, 400 South Eight Street, Lebanon, Pennsylvania 17042. | April 9, 2004 | 420573 B
Pennsylvania: Lebanon | Township of South Lebanon | January 2, 2004, January 9, 2004, Lebanon Daily News. | Mr. Curtis Kulp, Township of South Lebanon Manager, 1800 South Fifth Avenue, Lebanon, Pennsylvania 17042. | April 9, 2004 | 420581 C
Pennsylvania: Montgomery | Township of Springfield | December 17, 2003, December 24, 2003, Ambler Gazette. | Mr. Donald Berger, Township of Springfield Manager, 1510 Papermill Road, Wyndmoor, Pennsylvania 19118. | December 10, 2003 | 425388 E
Pennsylvania: Montgomery | Township of Upper Dublin | December 17, 2003, December 24, 2003, Ambler Gazette. | Mr. Paul Leonard, Township of Upper Dublin Manager, 801 Loch Alsh Avenue, Fort Washington, Pennsylvania 19304. | December 10, 2003 | 420708 E
New York: Niagara | Town of Newfane | December 24, 2003, December 31, 2003, Union & Sun Journal. | Mr. Eric Krueger, Town of Newfane Supervisor, Newfane Town Hall, 2896 Transit Road, Newfane, New York 14108. | June 16, 2004 | 360504 B
New York: Niagara | City of Niagara Falls | December 23, 2003, December 30, 2003, Niagara Falls Gazette. | The Honorable Irene J. Elia, Mayor of the City of Niagara Falls, P.O. Box 69, Niagara Falls, New York 14302-0069. | June 16, 2004 | 360506 B
North Carolina: Gaston | City of Belmont | December 8, 2003, December 15, 2003, The Gaston Gazette. | The Honorable Billy W. Joye, Jr., Mayor of the City of Belmont, P.O. Box 431, Belmont, North Carolina 28012. | December 1, 2003 | 370320 E
North Carolina: Durham | Unincorporated Areas | June 24, 2003, July 1, 2003, The Herald-Sun. | Mr. Michael M. Ruffin, Durham County Manager, 200 East Main Street, 2nd Floor, Durham, North Carolina 27701. | September 30, 2003. | 370085 G
North Carolina: Durham | City of Durham | June 24, 2003, July 1, 2003, The Herald-Sun. | The Honorable William V. Bell, Mayor of the City of Durham, 101 City Hall Plaza, Durham, North Carolina 27701. | September 30, 2003. | 370086 G
North Carolina: Durham | Unincorporated Areas | December 8, 2003, December 15, 2003, The Gaston Gazette. | Mr. Jan Winters, Gaston County Manager, P.O. Box 1578, Gastonia, North Carolina 28053. | December 1, 2003. | 370099 E
North Carolina: Gaston | City of Mount Holly | December 8, 2003, December 15, 2003, The Gaston Gazette. | The Honorable Robert Black, Mayor of the City of Mount Holly, P.O. Box 406, Mount Holly, North Carolina 28120. | December 1, 2003. | 370102 E
Pennsylvania: Montgomery | Township of Whitemarsh | December 17, 2003, December 24, 2003, Times Herald. | Mr. Lawrence J. Gregan, Township of Whitemarsh Manager, 616 Germantown Pike, Lafeyette Hill, Pennsylvania 19444-1821. | December 20, 2003. | 420712 E
Puerto Rico | Commonwealth | January 2, 2004, January 9, 2004, The San Juan Star. | The Honorable Sila M. Calderon, Governor of the Commonwealth of Puerto Rico, Office of the Governor, P.O. Box 9020082, San Juan, Puerto Rico 00902-0082. | April 9, 2004. | 720000 C
South Carolina: Horry | Unincorporated Areas | December 29, 2003, January 5, 2004, The Sun News. | Mr. Danny Knight, Horry County Administrator, P.O. Box 1236, Conway, South Carolina 29528. | December 22, 2003 | 450104 H
Tennessee: Rutherford | City of La Vergne | January 5, 2004, January 12, 2004, The Daily News Journal. | The Honorable Mike Webb, Mayor of the City of LaVergne, 5093 Murfreesboro, Road, LaVergne, Tennessee 37086. | December 29, 2003 | 470167 E
Virginia: Fauquier | Unincorporated Areas | January 8, 2004, January 15, 2004, Fauquier Citizen. | Mr. G. Robert Lee, Fauquier County Administrator, 40 Culpeper Street, Warrenton, Virginia 20186. | December 23, 2003 | 510055 A
Wisconsin: Dane | Unincorporated Areas | November 20, 2003, November 27, 2003, Wisconsin State Journal. | Ms. Kathleen Falk, Dane County Executive, City-Council Building, Room 421, 210 Martin Luther King, Jr., Boulevard, Madison, Wisconsin 53709. | February 26, 2004 | 550077 F
Wisconsin: Dane | Village of Mazomanie | November 20, 2003, November 27, 2003, News-Sickle-Arrow. | Mr. Jeff Wirth, Mazomanie Village President, 133 Crescent Street, Mazomanie, Wisconsin 53560. | February 26, 2004 | 550085 F

.

(Catalog of Federal Domestic Assistance No. 83.100, “Flood Insurance.”)
Dated: February 3, 2004.
Anthony S. Lowe,
Mitigation Division Director, Emergency Preparedness and Response Directorate.

[FR Doc. 04-2789 Filed 2-9-04; 8:45 am]

BILLING CODE 9110-12-M